DEPARTMENT OF DEFENSE

Department of the Army

Intent To Grant an Exclusive License of U.S. Government-Owned Patents

AGENCY: Department of the Army, DoD.

ACTION: Notice.

SUMMARY: The comment period for the Intent to Grant an Exclusive License of U.S. Government-Owned Patents published in the Federal Register on Friday, December 9, 2016 (81 FR 89087), required comments be postmarked on or before December 24, 2016 and again on January 23, 2017. The comment period has been extended to March 10, 2017.

FOR FURTHER INFORMATION CONTACT: Mr. Barry Datlof, Office of Research & Technology Assessment, (301) 619-0033. For patent issues, Ms. Elizabeth Arwine, Patent Attorney, (301) 619-7808, both at telefax (301) 619-5034.

Brenda S. Bowen,
Army Federal Register Liaison Officer.

[FR Doc. 2017-01851 Filed 1-26-17; 8:45 am]

BILLING CODE 5001-03-P